DEPARTMENT OF TRANSPORTATION

Federal Transit Administration

Preparation of an Environmental Impact Statement for the Redlands Passenger Rail Project in the Cities of San Bernardino and Redlands, CA

AGENCY: Federal Transit Administration (FTA), DOT.

ACTION: Notice of Correction.

SUMMARY: This notice corrects the location of one public scoping meeting and it also changes the dates of the public scoping meetings.

DATES: The date, time, and location for the public scoping meetings are corrected to read as follows:

September 25, 2012

5:30 p.m. to 7:30 p.m.

San Bernardino Hilton, 285 East Hospitality Lane, San Bernardino, CA 92408.

September 27, 2012

5:30 p.m. to 7:30 p.m.

ESRI Café, 380 New York Street, Redlands, CA 92373.

These locations are accessible by persons with disabilities. If special translation or signing services or other special accommodations are needed, please contact Robert Chevez at Westbound Communications (909-384-8188) at least 48 hours before the meeting.

ADDRESSES: Written comments may be submitted to Mitchell A. Alderman, P.E., Director of Transit & Rail Programs, SANBAG, 1170 W. 3rd St., 2nd Floor, San Bernardino, CA 92410, or emailed to RPRP_Public_Comments@sanbag.ca.gov. Written comments may also be submitted to Mr. Hymie Luden, City and Regional Planner, FTA, Region 9, 201 Mission Street, Suite 1650, San Francisco, CA 94105.

In accordance with Section 6002 of SAFETEA-LU, FTA and SANBAG invite comment on the scope of the EIS, specifically on the project's purpose and need, the alternatives to be evaluated that may address the purpose and need, and the potential impacts of the alternatives considered. Comments on the EIS/DEIR must be received no later than 5:00 p.m. Pacific Standard Time on October 11, 2012. Additional information is available on SANBAG's Web site at: http://sanbag.ca.gov/projects/redlands-transit.html or by calling Jane Dreher, SANBAG's Public Information Officer (909-884-8276). This information will be made available at the public scoping meetings.

SUPPLEMENTARY INFORMATION: The notice published on July 31, 2012 (77 FR 45415) provided an incorrect address for one of the public scoping meetings. This notice provides a corrected address for that meeting and corrected dates for the public scoping meetings.

FOR FURTHER INFORMATION CONTACT: Mitchell A. Alderman, P.E., Director of Transit & Rail Programs, SANBAG, 1170 W. 3rd St., 2nd Floor, San Bernardino, CA 92410, or email to RPRP_Public_Comments@sanbag.ca.gov. Written requests for information may also be submitted to Mr. Hymie Luden, City and Regional Planner, FTA, Region 9, 201 Mission Street, Suite 1650, San Francisco, CA 94105.

Issued on: August 20, 2012.
Leslie T. Rogers,
Regional Administrator, FTA, Region 9.

[FR Doc. 2012-20774 Filed 8-22-12; 8:45 am]

BILLING CODE P